Title 3—

The President

Proclamation 7263 of January 11, 2000

Establishment of the Agua Fria National Monument

By the President of the United States of America

A Proclamation

The windswept, grassy mesas and formidable canyons of Agua Fria National Monument embrace an extraordinary array of scientific and historic resources. The ancient ruins within the monument, with their breathtaking vistas and spectacular petroglyphs, provide a link to the past, offering insights into the lives of the peoples who once inhabited this part of the desert Southwest. The area's architectural features and artifacts are tangible objects that can help researchers reconstruct the human past. Such objects and, more importantly, the spatial relationships among them, provide outstanding opportunities for archeologists to study the way humans interacted with one another, neighboring groups, and with the environment that sustained them in prehistoric times.

The monument contains one of the most significant systems of late prehistoric sites in the American Southwest. Between A.D. 1250 and 1450, its pueblo communities were populated by up to several thousand people. During this time, many dwelling locations in the Southwest were abandoned and groups became aggregated in a relatively small number of densely populated areas. The monument encompasses one of the best examples of these areas, containing important archeological evidence that is crucial to understanding the cultural, social, and economic processes that accompanied this period of significant change.

At least 450 prehistoric sites are known to exist within the monument and there are likely many more. There are at least four major settlements within the area, including Pueblo La Plata, Pueblo Pato, the Baby Canyon Ruin group, and the Lousy Canyon group. These consist of clusters of stone-masonry pueblos, some containing at least 100 rooms. These settlements are typically situated at the edges of steep canyons, and offer a panorama of ruins, distinctive rock art panels, and visually spectacular settings.

Many intact petroglyph sites within the monument contain rock art symbols pecked into the surfaces of boulders and cliff faces. The sites range from single designs on boulders to cliffs covered with hundreds of geometric and abstract symbols. Some of the most impressive sites are associated with major pueblos, such as Pueblo Pato.

The monument holds an extraordinary record of prehistoric agricultural features, including extensive terraces bounded by lines of rocks and other types of landscape modifications. The agricultural areas, as well as other sites, reflect the skills of ancient residents at producing and obtaining food supplies sufficient to sustain a population of several thousand people.

The monument also contains historic sites representing early Anglo-American history through the 19th century, including remnants of Basque sheep camps, historic mining features, and military activities.

In addition to its rich record of human history, the monument contains other objects of scientific interest. This expansive mosaic of semi-desert grassland, cut by ribbons of valuable riparian forest, is an outstanding biological resource. The diversity of vegetative communities, topographical features, and relative availability of water provide habitat for a wide array of sensitive wildlife species, including the lowland leopard frog, the Mexican garter snake, the common black hawk, and the desert tortoise. Other wildlife is abundant and diverse, including pronghorn, mule deer, and white-tail deer. Javelina, mountain lions, small mammals, reptiles, amphibians, fish, and neotropical migratory birds also inhabit the area. Elk and black bear are present, but less abundant. Four species of native fish, including the longfin dace, the Gila mountain sucker, the Gila chub, and the speckled dace, exist in the Agua Fria River and its tributaries.

Section 2 of the Act of June 8, 1906 (34 Stat. 225, 16 U.S.C. 431) authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected.

WHEREAS it appears that it would be in the public interest to reserve such lands as a national monument to be known as the Agua Fria National Monument:

NOW, THEREFORE, I, WILLIAM J. CLINTON, President of the United States of America, by the authority vested in me by section 2 of the Act of June 8, 1906 (34 Stat. 225, 16 U.S.C. 431), do proclaim that there are hereby set apart and reserved as the Agua Fria National Monument, for the purpose of protecting the objects identified above, all lands and interests in lands owned or controlled by the United States within the boundaries of the area described on the map entitled “Agua Fria National Monument” attached to and forming a part of this proclamation. The Federal land and interests in land reserved consist of approximately 71,100 acres, which is the smallest area compatible with the proper care and management of the objects to be protected.

For the purpose of protecting the objects identified above, all motorized and mechanized vehicle use off road will be prohibited, except for emergency or authorized administrative purposes.

Nothing in this proclamation shall be deemed to enlarge or diminish the jurisdiction of the State of Arizona with respect to fish and wildlife management.

The establishment of this monument is subject to valid existing rights.

All Federal lands and interests in lands within the boundaries of this monument are hereby appropriated and withdrawn from all forms of entry, location, selection, sale, leasing, or other disposition under the public land laws, including but not limited to withdrawal from location, entry, and patent under the mining laws, and from disposition under all laws relating to mineral and geothermal leasing, other than by exchange that furthers the protective purposes of the monument. Lands and interests in lands within the proposed monument not owned by the United States shall be reserved as a part of the monument upon acquisition of title thereto by the United States.

There is hereby reserved, as of the date of this proclamation and subject to valid existing rights, a quantity of water sufficient to fulfill the purposes for which this monument is established. Nothing in this reservation shall be construed as a relinquishment or reduction of any water use or rights reserved or appropriated by the United States on or before the date of this proclamation.

The Secretary of the Interior shall manage the monument through the Bureau of Land Management, pursuant to applicable legal authorities, to implement the purposes of this proclamation.

Laws, regulations, and policies followed by the Bureau of Land Management in issuing and administering grazing leases on all lands under its jurisdiction shall continue to apply with regard to the lands in the monument.

Nothing in this proclamation shall be deemed to revoke any existing withdrawal, reservation, or appropriation; however, the national monument shall be the dominant reservation.

Warning is hereby given to all unauthorized persons not to appropriate, injure, destroy, or remove any feature of this monument and not to locate or settle upon any of the lands thereof.

IN WITNESS WHEREOF, I have hereunto set my hand this eleventh day of January, in the year of our Lord two thousand, and of the Independence of the United States of America the two hundred and twenty-fourth.

wj

Billing code 3195-01-P

[FR Doc. 00-1294

Filed 1-14-00; 10:45 am]

Billing code 3195-01-C